DEPARTMENT OF ENERGY

Federal Energy Regulatory Commission

[Docket No. RP03-537-000]

Trunkline LNG Company, LLC; Notice of Filing

July 8, 2003.

Take notice that on July 1, 2003, Trunkline LNG Company, LLC (TLNG) tendered for filing pursuant to section 21 of the General Terms and Conditions of its FERC Gas Tariff, Second Revised Volume No. 1-A.

TLNG states that section 21 provides for the flow-through of all penalty revenues collected, net of cost, (Miscellaneous Revenue Amount) to shippers under Rate Schedules FTS and ITS by means of a surcharge adjustment to the base reservation and usage rates (Miscellaneous Revenue Flowthrough Surcharge Adjustment). TLNG states that the effective date of each Miscellaneous Revenue Flowthrough Surcharge Adjustment is August 1.

TLNG states that in accordance with section 21, the Miscellaneous Revenue Amount shall be determined four (4) months prior to August 1. TLNG asserts that no penalty revenues have been billed or collected during this period and that consequently, there is no adjustment necessary to TLNG's base reservation and usage rates.

TLNG states that copies of this filing are being served on all affected customers and interested state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: July 14, 2003.

Magalie R. Salas,
Secretary.

[FR Doc. 03-17683 Filed 7-11-03; 8:45 am]

BILLING CODE 6717-01-P